DEPARTMENT OF THE INTERIOR

Fish and Wildlife Service

50 CFR Part 17

RIN 1018-AG17

Endangered and Threatened Wildlife and Plants; Reopening of Comment Period and Notice of Availability of Draft Economic Analysis on Proposed Critical Habitat Determination for the Peninsular Bighorn Sheep. Notice of Availability of Peninsular Bighorn Sheep Distribution Map

AGENCY: Fish and Wildlife Service, Interior.

ACTION: Proposed rule; reopening of comment period and notice of availability of draft economic analysis and notice of availability of Peninsular bighorn sheep distribution map.

SUMMARY: The U.S. Fish and Wildlife Service (Service) announces the availability of a draft economic analysis for the proposed designation of critical habitat for the Peninsular bighorn sheep (Ovis canadensis). We also provide notice of the reopening of the comment period for the proposal to designate critical habitat for the Peninsular bighorn sheep to allow all interested parties to submit written comments on the proposed rule and on the draft economic analysis. Comments previously submitted need not be resubmitted as they will be incorporated into the public record as a part of this reopening and will be fully considered in the final rule. We also provide notice of the availability of distribution map for the Peninsular bighorn sheep.

DATES: The original comment period on the critical habitat proposal closed on August 31, 2000. The comment period is again reopened and we will accept comments until November 20, 2000. Comments must be received by the closing date. Any comments that are received after the closing date may not be considered in the final decision on this proposal.

ADDRESSES: Copies of the draft economic analysis are available on the Internet at “http://pacific.fws.gov/crithab/pbsh” or by writing to the Field Supervisor, U.S. Fish and Wildlife Service, Carlsbad Fish and Wildlife Office, 2730 Loker Avenue West, Carlsbad, California, 92008. Written comments should be sent to the Field Supervisor. You may also send comments by electronic mail (e-mail) to fw1pbsh@fws.gov. Please submit comments in ASCII file format and avoid the use of special characters and encryption. Please include “Attn: RIN 1018-AG17” and your name and return address in your e-mail message. Comments and materials received will be available for public inspection, by appointment, during normal business hours at the above Service address. Copies of the distribution map for the Peninsular bighorn sheep are available by contacting the Carlsbad Fish and Wildlife Office or by appointment during normal business hours.

FOR FURTHER INFORMATION CONTACT: The Carlsbad Fish and Wildlife Office, at the above address (telephone 760-431-9440; facsimile 760-431-9618).

SUPPLEMENTARY INFORMATION:

Background

Bighorn sheep (Ovis canadensis) are found along the Peninsular Mountain Ranges from the San Jacinto Mountains of southern California south into the Volcan Tres Virgenes Mountains near Santa Rosalia, Baja California, Mexico, a total distance of approximately 800 kilometers (km) (500 miles (mi)). The Peninsular bighorn sheep is similar in appearance to other desert bighorn sheep. The coat is pale brown, and the permanent horns, which become rough and scarred with age, vary in color from yellowish-brown to dark brown. The Peninsular bighorn sheep occurs on steep, open slopes, canyons, and washes in hot and dry desert regions where the land is rough, rocky, and sparsely vegetated. Most of these sheep live between 91 and 1,219 meters (m) (300 and 4,000 feet (ft)) in elevation, where average annual precipitation is less than 10 centimeters (cm) (4 inches (in)) and daily high temperatures average 104° Fahrenheit in the summer. Alluvial fans (sloping masses of gravel, sand, clay, and other sediments that widen out like fans at the base of canyons and washes) are used for breeding, feeding, and movement. Peninsular bighorn sheep use a wide variety of plant species as their food source. Peninsular bighorn sheep typically produce only one lamb per year. Bighorn ewes exhibit a high degree of site fidelity to their home range; this behavior is learned by their offspring. From May through October, Peninsular bighorn sheep are typically more localized in distribution around permanent water sources.

The decline of the Peninsular bighorn sheep is attributed to a combination of factors, including: (1) Relatively low adult survivorship from predation and human-related causes; (2) the effects of disease and parasitism; (3) low lamb recruitment; and (4) habitat loss, degradation, and fragmentation. The Peninsular bighorn sheep in the United States declined from an estimated 1,171 individuals in 1971 to about 570 individuals in 1991 (Bleich et al. 1992). Recent estimates now number the population at approximately 335 adults in about eight ewe groups in the wild in the United States. The habitat still remaining for the Peninsular bighorn sheep in the United States is managed by the California Department of Parks and Recreation, California Department of Fish and Game, Bureau of Land Management, private landowners, Trust lands, U.S. Forest Service, and other State and local entities.

Section 4(b)(2) of the Act requires that the Secretary shall designate or revise critical habitat based upon the best scientific data available and after taking into consideration the economic impact of specifying any particular area as critical habitat. Based upon the previously published proposal to designate critical habitat for the Peninsular bighorn sheep and comments received during previous comment period, we have conducted a draft economic analysis of the proposed critical habitat designation. The draft economic analysis is available at the above Internet and mailing address (see ADDRESSES section). To accept the best and most current scientific data regarding the critical habitat proposal and the draft economic analysis of the proposal, we reopen the comment period at this time. Previously submitted oral or written comments on this critical habitat proposal need not be resubmitted. The current comment period on this proposal closes on November 20, 2000. Written comments may be submitted to the Service office in the ADDRESSES section.

The distribution map for Peninsular bighorn sheep represents a recent compilation of data from numerous sources that depicts the distributional range of bighorn sheep in the Peninsular Ranges of southern California. The mapped information was compiled through an interagency recovery planning program. The map is being made available to provide the public with additional information on the biology of the Peninsular bighorn sheep.

Author

The primary author of this notice is the Carlsbad Fish and Wildlife Office (see ADDRESSES section).

Authority

The authority for this action is the Endangered Species Act of 1973 (16 U.S.C. 1531 et seq.).

Dated: October 11, 2000.
Anne Badgley,
Regional Director, Region 1.

[FR Doc. 00-26877 Filed 10-18-00; 8:45 am]

BILLING CODE 4310-55-U